DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Generic Clearance for Master Address File (MAF) and Topologically Integrated Geographic Encoding and Referencing (TIGER) Update Activities.

OMB Control Number: 0607-0809.

Form Number(s): DF-31DA(E/S) Confidentiality Notice Listing and Mapping Application Screen Shots.

Type of Request: Regular submission.

Number of Respondents:

FY16: 60,000 HH, 2,000 GQs

FY17: 60,000 HH, 2,000 GQs

FY18: 60,000 HH, 2,000 GQs

Average Hours per Response: 3 min/HH; 10 min/GQs.

Burden Hours:

FY16: 3,333

FY17: 3,333

FY18: 3,333

Needs and Uses: The Census Bureau requests approval from the Office of Management and Budget (OMB) for an extension of the generic clearance for a number of activities it plans to conduct to update its Master Address File (MAF) and maintain the linkage between the MAF and the Topologically Integrated Geographic Encoding Referencing System (TIGER) of address ranges and associated geographic information. This MAF/TIGER database (MTdb) serves as the national repository for all of the spatial, geographic, and residential address data needed for census and survey data collection, data tabulation, data dissemination, geocoding services, and map production. The MAF contains all known living quarters and serves as the base of the census frame, to deliver questionnaires and postcards and to facilitate in-person data collection. The goal is to have each address in the MAF linked to a geographic location in TIGER, the Census Bureau's mapped spatial database. This linkage also ensures that the census data are processed and tabulated in the correct geographic location.

The Census Bureau established the first MAF/TIGER System to support the Census 2000 enumeration. The objective was to build and maintain a permanent housing unit address list and linked spatial database for future use. The 1990 Census Address Control File was the initial base for the MAF. The United States Postal Service (USPS) Delivery Sequence File (DSF) provided regular updates to the MAF in city-style address areas. Census 2000 frame operations were the first decennial census operations to update the MAF. Census 2000 enumeration operations supplied additional updates to the MAF.

After Census 2000, the advent of the American Community Survey (ACS), an ongoing census survey to collect community information, strengthened the need for MTdb updates throughout the decade. Between 2000 and 2010, the Census Bureau continued to use the USPS's DSF to update the MAF at least twice a year. In addition, the ACS established the Community Address Updating System, a program that provides field verified address updates to the MAF particularly in areas where the DSF is deficient. The Census Bureau used the addresses in the MTdb for the address frame for the 2010 Census and all frame-building operations and will do so again for the 2020 Census. These addresses are also used as a sampling frame for the American Community Survey and our other demographic current surveys. Maintenance activities for the MTdb are ongoing.

The generic clearance has proved to be very beneficial to the Census Bureau. The generic clearance has allowed us to utilize our limited resources on actual operational planning and development of procedures. The extension will be especially beneficial over the upcoming three years by enabling us to focus on the efforts to improve procedures and continue updating the MTdb for the 2020 Census and current surveys.

The Census Bureau will follow the protocol of past generic clearances: 30 days before the scheduled start date of each census activity, we will provide OMB with a detailed background on the activity, estimates of respondent burden and samples of pertinent forms. After the close of each fiscal year, we will also file a year-end summary report with OMB, presenting the results of each activity conducted.

The following sections describe the activities to be included under the clearance. The Census Bureau has conducted these activities (or similar ones) previously and the respondent burden remains relatively unchanged from one time to another. The estimated number of respondents is based on historical contact data and applied to the number of Census blocks in sample.

Demographic Area Address Listing (DAAL)

The Demographic Area Address Listing (DAAL) program encompasses the geographic area updates for the Community Address Updating System (CAUS) and the National Health Interview Survey, the area and group quarters (GQ) frame listings for many ongoing demographic surveys (the Current Population Survey, the Consumer Expenditures Survey, etc.), and any other operations that use the MTdb as a frame for data collection. As noted above, the CAUS program was designed to address quality concerns relating to areas with high concentrations of noncity-style addresses and to provide a rural counterpart to the update of city-style addresses the Census Bureau will receive from the U.S. Postal Service's DSF. The ongoing demographic surveys, as part of the 2000 Sample Redesign Program, use the MTdb as one of several sources of addresses from which they select their samples.

The DAAL program is a cooperative effort among many divisions at the Census Bureau; it includes automated listing software, systems, and procedures that allow us to conduct address listing operations in a dependent manner based on information contained in the MTdb. The DAAL operations are conducted on an ongoing basis in potentially any county across the country. Census Bureau field staff canvass selected 2010 Census tabulation blocks in an effort to improve the address list in areas where substantial address changes may have occurred that have not been added to the MTdb through regular update operations, and/or in blocks in the area or group quarters frame sample for the demographic surveys. Staff update existing information and, when necessary, contact individuals to collect accurate location and mailing address information. In general, contact with a household occurs only when the staff is adding a unit to the address list, there is a missing mailing address flag, and/or the individual's address is not posted or visible to the staff. There is no pre-determined or scripted list of questions asked for households as part of this listing operation. If an address is not posted or visible to the staff, they inquire about the address of the structure, the mailing address, and in some instances, the year the structure was built. If the occupants of these households are not at home, the staff may attempt to contact a neighbor to obtain the correct address information. DAAL collects Group Quarters information from all GQs in the selected blocks, and although there is not a scripted list of questions, the staff will ask information about the GQ such as the number of beds, the GQ name, and so on.

DAAL is an ongoing operation. Listing assignments are distributed regularly, with the work conducted throughout the time period. We expect the DAAL listing operation will be conducted throughout the entire time period of the extension of this clearance.

MAF Coverage Study

The MAF Coverage Study (MAFCS) is planned as an ongoing Census Bureau effort to update the MTdb for current surveys and the Decennial Census, as well as to produce MTdb coverage estimates at national and sub-national levels. The coverage estimates produced as a result of the MAFCS design will allow the Census Bureau to establish a baseline coverage measure for the MTdb and yearly measures to assess the impacts of ongoing address updates on the MTdb. In addition to the traditional updates from the United States Postal Service and current surveys, the Census Bureau now continuously updates the MTdb with data from local data providers through the Geographic Support Systems (GSS). The MAFCS estimates will allow the Census Bureau to assess the updates from the GSS as well as other ongoing updates. MAFCS will leverage existing Census Bureau programs and systems to achieve these objectives. MAFCS data are collected by DAAL staff; hence, there will be a large increase to the DAAL operation workload.

During Fiscal Year 2016, the bulk of the production field data collection (18,500 blocks) will occur from April 2016 through September 2017. In subsequent fiscal years, the field data collection will be spread over a 12-month period from October through September. The MAFCS uses probabilistic sampling methods to select blocks to canvass in the United States (except remote areas of Alaska) and Puerto Rico. Blocks for Puerto Rico will be selected for Fiscal Year 2017 and canvassing will not begin until April 2017. Blocks that are known to include public lands, nonresidential military facilities, or only street medians are out of scope for the MAFCS.

The listed activities are not exhaustive of all activities that may be performed under this generic clearance. We will follow the approved procedure when submitting any additional activities not specifically listed here.

All activities described above directly support the Census Bureau's efforts to update the MTdb on a regular basis so that the most current MTdb will be available for use in conducting and evaluating statistical programs the Census Bureau undertakes on a monthly, annual, or periodic basis.

Affected Public: Individuals or households.

Frequency: Continuous throughout the three years.

Respondent's Obligation: Mandatory.

Legal Authority: Title 13 United States Code, Sections 141 and 193.

This information collection request may be viewed at www.reginfo.gov. Follow the instructions to view Department of Commerce collections currently under review by OMB.

Written comments and recommendations for the proposed information collection should be sent within 30 days of publication of this notice to OIRA_Submission@omb.eop.gov or fax to (202) 395-5806.

Dated: April 15, 2016.
Glenna Mickelson,
Management Analyst, Office of the Chief Information Officer.

[FR Doc. 2016-09101 Filed 4-19-16; 8:45 am]

BILLING CODE 3510-07-P